DEPARTMENT OF COMMERCE

International Trade Administration

[C-570-938]

Citric Acid and Certain Citrate Salts: Final Results of Countervailing Duty Administrative Review; 2013

AGENCY: Enforcement and Compliance, International Trade Administration, Department of Commerce.

SUMMARY: The Department of Commerce (the Department) has completed its administrative review of the countervailing duty (CVD) order on citric acid and certain citrate sales from the People's Republic of China (PRC) for the period January 1, 2013, through December 31, 2013. On June 8, 2015, the Department published in the Federal Register the Preliminary Results of this administrative review.¹ We completed the Post-Preliminary Results in this administrative review on June 26, 2015.²

¹ See Citric Acid and Certain Citrate Salts: Preliminary Results of Countervailing Duty Administrative Review; 2013, 80 FR 32346 (June 8, 2015) (Preliminary Results).

² See Memorandum to Paul Piquado, Assistant Secretary for Enforcement and Compliance, from Melissa G. Skinner, Director, Office II, entitled, “Post-Preliminary Results Decision Memorandum in the 2013 Countervailing Duty Administrative Review; Citric Acid and Certain Citrate Salts from the People's Republic of China,” dated June 26, 2015 (Post-Preliminary Results).

We gave interested parties an opportunity to comment on the Preliminary Results and Post-Preliminary Results. Our analysis of the comments received resulted in a change to the net subsidy rate for Laiwu Taihe Biochemistry Co. Ltd. (Taihe). The final net subsidy rate is listed below in the section entitled, “Final Results of the Review.”

DATES: Effective date: December 14, 2015.

FOR FURTHER INFORMATION CONTACT: Elizabeth Eastwood, AD/CVD Operations, Office II, Enforcement and Compliance, International Trade Administration, U.S. Department of Commerce, 14th Street and Constitution Avenue NW., Washington, DC 20230; telephone (202) 482-3874.

SUPPLEMENTARY INFORMATION:

Background

On June 8, 2015, the Department published in the Federal Register the Preliminary Results of the 2013 administrative review of the CVD order on citric acid and certain citrate salts from the PRC. We completed the Post-Preliminary Results in this administrative review on June 26, 2015. We invited parties to comment on the Preliminary Results and Post-Preliminary Results.

On July 22, 2015, we received case briefs from the Government of China (GOC) and Taihe. On July 27, 2015, we received a rebuttal brief from the petitioners.³

³ The petitioners are Archer Daniels Midland Company, Cargill Incorporated, and Tate & Lyle Ingredients America LLC.

On August 13, 2015, we postponed the final results by 60 days, until December 7, 2015.⁴

⁴ See memorandum to Christian Marsh, Deputy Assistant Secretary for Enforcement and Compliance, from Shannon Morrison, International Trade Compliance Analyst, entitled, “Citric Acid and Certain Citrate Salts from the People's Republic of China: Extension of Deadline for Final Results of Countervailing Duty Administrative Review,” dated August 13, 2015.

Scope of the Order

The merchandise subject to the order is citric acid and certain citrate salts. The product is currently classified under the Harmonized Tariff Schedule of the United States (HTSUS) item numbers 2918.14.0000, 2918.15.1000, 2918.15.5000, 3824.90.9290, and 3824.90.9290. Although the HTSUS numbers are provided for convenience and customs purposes, the written product description remains dispositive.

A full description of the scope of the order is contained in the memorandum from Christian Marsh, Deputy Assistant Secretary for Antidumping and Countervailing Duty Operations, to Paul Piquado, Assistant Secretary for Enforcement and Compliance, entitled, “Issues and Decision Memorandum for the Final Results of the Countervailing Duty Administrative Review: Citric Acid and Certain Citrate Salts; 2013” (Issues and Decision Memorandum), dated concurrently with and hereby adopted by this notice.

Analysis of Comments Received

All issues raised in the case briefs are addressed in the Issues and Decision Memorandum. A list of the issues raised is attached to this notice as an Appendix. The Issues and Decision Memorandum is a public document and is on file electronically via Enforcement and Compliance's Antidumping and Countervailing Duty Centralized Electronic Service System (ACCESS). ACCESS is available to registered users at http://access.trade.gov and in the Central Records Unit, Room B8024 of the main Department of Commerce building. In addition, a complete version of the Issues and Decision Memorandum can be accessed directly on the internet at http://www.trade.gov/enforcement/. The signed Issues and Decision Memorandum and the electronic versions of the Issues and Decision Memorandum are identical in content.

Methodology

The Department conducted this review in accordance with section 751(a)(1)(A) of the Tariff Act of 1930, as amended (the Act). For each of the subsidy programs found countervailable, we determine that there is a subsidy (i.e., a financial contribution from an “authority” that confers a benefit to the recipient, and that the subsidy is specific).⁵ See the Issues and Decision Memorandum for a full description of the methodology underlying our conclusions.

⁵ See sections 771(5)(B) and (D) of the Act regarding financial contribution; section 771(5)(E) of the Act regarding benefit; and section 771(5A) of the Act regarding specificity.

In making our findings, we relied, in part, on the facts otherwise available. Further, because the GOC did not act to the best of its ability to respond to the Department's requests for information, we drew an adverse inference in selecting from among the facts available, pursuant to sections 776(a) and (b) of the Act. See the Issues and Decision Memorandum in the section entitled, “Use of Facts Otherwise Available and Adverse Inferences,” for further information.

Final Results of the Review

In accordance with 19 CFR 351.221(b)(5), we determine a net countervailable subsidy rate of 30.93 percent ad valorem for Taihe.

Assessment Rates

The Department intends to issue appropriate assessment instructions directly to U.S. Customs and Border Protection (CBP) 15 days after the date of publication of these final results, to liquidate shipments of subject merchandise by Taihe entered, or withdrawn from warehouse, for consumption on or after January 1, 2013, through December 31, 2013.

Cash Deposit Instructions

The Department also intends to instruct CBP to collect cash deposits of estimated countervailing duties in the amount shown above on shipments of subject merchandise by Taihe entered, or withdrawn from warehouse, for consumption on or after the date of publication of the final results of this review. For all non-reviewed companies, we will instruct CBP to continue to collect cash deposits of estimated countervailing duties at the most recent company-specific or country-wide rate applicable to the company. Accordingly, the cash deposit rates that will be applied to companies covered by this order, but not examined in this review, are those established in the most recently-completed segment of the proceeding for each company. These cash deposit requirements, when imposed, shall remain in effect until further notice.

Administrative Protective Order

This notice serves as a reminder to parties subject to administrative protective order (APO) of their responsibility concerning the disposition of proprietary information disclosed under APO in accordance with 19 CFR 351.305(a)(3). Timely written notification of return or destruction of APO materials or conversion to judicial protective order is hereby requested. Failure to comply with the regulations and the terms of an APO is a sanctionable violation.

We are issuing and publishing these results in accordance with sections 751(a)(1) and 777(i)(1) of the Act.

Dated: December 7, 2015.
Paul Piquado,
Assistant Secretary for Enforcement and Compliance.

Appendix

List of Topics Discussed in the Issues and Decision Memorandum

I. Summary

II. Background

III. Scope of the Order

IV. Use of Facts Otherwise Available and Adverse Inferences

V. Subsidies Valuation Information

VI. Benchmarks and Discount Rates

VII. Analysis of Programs

VIII. Analysis of Comments

1. Whether To Find Input for the Less-Than-Adequate-Remuneration (LTAR) Programs Not Specific

A. Sulfuric Acid

B. Steam Coal

C. Calcium Carbonate

D. Caustic Soda

2. Whether the Department Should Apply Adverse Facts Available in its Market Distortion Analysis of the Sulfuric Acid, Calcium Carbonate, and Caustic Soda Industries

3. Whether To Reverse the Department's “Authorities” Determination for Certain Input Suppliers

4. Including Ocean Freight and Import Duties in the International Freight Benchmark for Input for LTAR Programs

5. The Selection of Ports in the International Freight Benchmark for Input for LTAR Programs

6. Whether To Use Freight Rates for Flat Rack Containers in the International Freight Benchmark for the Calcium Carbonate for LTAR Program

7. Whether To Include the Costs for Hazardous Shipping Charges in the International Freight Benchmark for the Sulfuric Acid and Caustic Soda for LTAR Programs

IX. Recommendation

[FR Doc. 2015-31419 Filed 12-11-15; 8:45 am]

BILLING CODE 3510-DS-P